Proclamation 8973 of April 30, 2013

Loyalty Day, 2013

By the President of the United States of America

A Proclamation

In the centuries since America broke from an empire and claimed independence, our people have come together again and again to meet the challenges of a changing world. We have reinvented our cities with advances in science and reformed our markets with new understanding of the forces that guide them. We have fought for freedom in the theater of war and expanded its reach during times of peace. We have revamped and recovered and remade ourselves anew, mindful that when times change, so must we. But with every step forward, we have reaffirmed our faith in the ideals that inspired our founding. We have held fast to the principles at our country's core: service and citizenship; courage and the common good; liberty, equality, and justice for all.

This is our Nation's heritage, and it is what we remember on Loyalty Day. It is an occasion that asks something of us as a people: to rediscover those ageless truths our Founders held to be self-evident, and to renew them in our own time. We look back to Americans who did the same, from generation to generation—citizens who strengthened our democracy, organizers who made it broader, service members who gave everything to protect it. These patriots and pioneers remind us that while our path to a more perfect Union is unending, with hope and hard work, we can move forward together.

Today, we rededicate ourselves to that enduring task. We do so knowing our journey is not complete until the promises of our founding documents are made real for every American, regardless of their station in life or the circumstances of their birth. Progress may come slow; the road may be long. But as loyal citizens of these United States, we have the power to set our country's course. Let us mark this day by pressing on in the march toward lasting freedom and true equality, grateful for the precious rights and responsibilities entrusted to each of us by our forebears.

In order to recognize the American spirit of loyalty and the sacrifices that so many have made for our Nation, the Congress, by Public Law 85-529 as amended, has designated May 1 of each year as “Loyalty Day.” On this day, let us reaffirm our allegiance to the United States of America, our Constitution, and our founding values.

NOW, THEREFORE, I, BARACK OBAMA, President of the United States of America, do hereby proclaim May 1, 2013, as Loyalty Day. This Loyalty Day, I call upon all the people of the United States to join in support of this national observance, whether by displaying the flag of the United States or pledging allegiance to the Republic for which it stands.

IN WITNESS WHEREOF, I have hereunto set my hand this thirtieth day of April, in the year of our Lord two thousand thirteen, and of the Independence of the United States of America the two hundred and thirty-seventh.

[FR Doc. 2013-10757

Filed 5-2-13; 11:15 am]

Billing code 3295-F3